DEPARTMENT OF TRANSPORTATION

Surface Transportation Board

[STB Finance Docket No. 34992]

Itasca County Regional Rail Authority—Petition for Exemption—Construction of a Line of Railroad in Itasca County, MN

Lead Agency: Surface Transportation Board.

Cooperating Agency: U.S. Army Corps of Engineers, St. Paul District.

ACTION: Notice of Availability of Environmental Assessment and Request for Public Review and Comment.

SUMMARY: On March 9, 2007, the Itasca County Regional Rail Authority (ICRRA) filed a petition with the Surface Transportation Board (Board) seeking authority to construct and operate a new rail line in Itasca County, Minnesota. The Board, through its Section of Environmental Analysis (SEA) and in cooperation with the U.S. Army Corps of Engineers (USACE), is the lead agency responsible for the preparation of the Environmental Assessment (EA).

The proposed line would extend approximately nine miles, starting at the connection with an existing rail line at Taconite and continuing to the site of a new steel mill to be built by Minnesota Steel Industries, LLC (Minnesota Steel) at the end of the line at Nashwauk, Minnesota. Principal commodities to be handled include miscellaneous chemicals, outbound steel slabs, and taconite pellets. The proposed rail line would initially serve the Minnesota Steel facility, but would also handle any additional traffic that future customers that may locate along the right-of-way generate. The proposed rail line would accommodate one round trip per day, seven days per week.

Based on the information provided from all sources to date and its independent analysis, SEA preliminarily concludes that construction and operation of the proposed rail line would not have significant environmental impacts if the Board imposes and ICRRA implements the recommended mitigation measures set forth in the EA.

Copies of the EA have been served on all interested parties and will be made available to additional parties upon request. The entire EA is also available for review on the Board's Web site (http://www.stb.dot.gov) by clicking on the “Decisions and Notices” link, then “E-LIBRARY” and searching by the Service Date (March 28, 2008) or Docket Number (FD 34992). SEA, working with USACE, will consider all comments received in making its final recommendations to the Board. The Board will then consider SEA's final recommendations and the complete environmental record in making its final decision in this proceeding.

FOR FURTHER INFORMATION CONTACT: Kenneth Blodgett, SEA Project Manager, at (202) 245-0305; e-mail: blodgettk@stb.dot.gov. Federal Information Relay Service for the hearing impaired: 1-800-877-8339.

DATES: The EA is available for public review and comment. All faxed and electronic comments must be submitted by May 2, 2008; comments sent by mail must be post-marked by May 2, 2008.

ADDRESSES: Send written comments to: Kenneth Blodgett, Surface Transportation Board, 395 E Street, SW., Washington, DC 20423, Attn: Docket No. FD 34992.

Please reference STB Docket No. 34992 in all correspondence.

Comments on the EA may also be filed electronically on the Board's Web site, http://www.stb.dot.gov, by clicking on the “E-FILING” link.

By the Board, Victoria Rutson, Chief, Section of Environmental Analysis.
Anne K. Quinlan,
Acting Secretary.

[FR Doc. E8-6542 Filed 3-31-08; 8:45 am]

BILLING CODE 4915-00-P